DEPARTMENT OF TRANSPORTATION

Coast Guard

46 CFR Parts 1, 10, 12, 28, 30, 32, 35, 67, 78, 97, 131, 161, 162, 167, 182, 196, 199, and 401

[USCG-2001-10224]

Technical Amendments; Organizational Changes; Miscellaneous Editorial Changes; and Conforming Amendments

AGENCY: Coast Guard, DOT.

ACTION: Final rule.

SUMMARY: This rule makes editorial and technical changes throughout Title 46 of the Code of Federal Regulations to update the title before it is recodified on October 1, 2001. It corrects addresses, updates cross-references, makes conforming amendments, and makes other technical corrections. This rule will have no substantive effect on the regulated public.

DATES: This final rule is effective September 30, 2001.

ADDRESSES: Documents as indicated in this preamble are available for inspection or copying at the Docket Management Facility, [USCG-2001-10224], U.S. Department of Transportation, room PL-401, 400 Seventh Street SW., Washington, DC, 20590-0001, between 9 a.m. and 5 p.m., Monday through Friday, except Federal holidays. You may also find this docket on the Internet at http://dms.dot.gov.

FOR FURTHER INFORMATION CONTACT: If you have questions on this rule, call Robert Spears, Project Manager, Standards Evaluation and Development Division (G-MSR-2), Coast Guard, telephone 202-267-1099. If you have questions on viewing the docket, call Dorothy Beard, Chief, Dockets, Department of Transportation, telephone 202-366-9329.

SUPPLEMENTARY INFORMATION:

Discussion of the Rule

Each year, title 46 of the Code of Federal Regulations (CFR) is recodified on October 1. This rule makes editorial changes throughout the title, corrects addresses, updates cross-references, and makes other technical and editorial corrections to be included in the recodification. This rule does not change any substantive requirements of existing regulations.

We did not publish a notice of proposed rulemaking (NPRM) for this regulation. Under 5 U.S.C. 553(b)(B), the Coast Guard finds that good cause exists for not publishing an NPRM. This rule consists only of corrections, editorial changes, and conforming amendments to 46 CFR, chapters I and III. These changes will have no substantive effect on the public so publishing an NPRM and providing an opportunity for public comment is unnecessary. Under 5 U.S.C. 553(d)(3), the Coast Guard finds that, for the same reasons, good cause exists for making this rule effective less than 30 days after publication in the Federal Register. Editorial changes that involve more than simply correcting erroneous letters or numbers—or a change of address—are discussed individually in the following paragraphs.

Parts 1 and 10

This rule adds the Director of Waterways Management (G-MW), to the Code of Federal Regulations, and it updates the distribution of functions assigned to several offices.

Parts 28, 35, 78, 97, 131, 167, and 196

In these parts, this rule updates information on obtaining nautical charts and publications by inserting references to the National Imagery and Mapping Agency.

Part 30

Since 1973, this section has referenced SOLAS 60. On July 26, 1990, a rulemaking titled “Replacement of References to SOLAS 60 With SOLAS 74” (55 FR 30658) was published to amend, among other things, this section and three other similar sections of title 46 (§§ 70.05-10, 90.05-10, and 188.05-10). All four amendatory instructions (# 11, 23, 32, and 68) were supposed to make the same change in the regulatory text of these four sections. They all should have read “Section * * * is amended by revising paragraphs (a)(2)(i) and (ii) to read as follows:”.

However, amendatory instruction # 11 in that rulemaking erroneously read “Section 30.01-6 is amended by revising paragraph (a) to read as follows:”. The instruction resulted in the deletion of paragraph (a)(2)(iii). This rule now corrects paragraph (a) by adding back the deleted language.

Part 32

On September 30, 1997, a rulemaking titled “Harmonization With International Safety Standards” (62 FR 51188) was published to amend, among other things, subpart 32.53. The Coast Guard determined that applicable SOLAS provisions regarding inert gas systems were equivalent to current Coast Guard regulations in terms of safety and operating requirements. Therefore, the Coast Guard incorporated SOLAS Chapter II-2 Regulation 62, containing the SOLAS requirements for inert gas systems, by reference in subpart 32.53 and removed §§ 32.53-15 through 32.53-85, which duplicate SOLAS requirements. The result was that § 32.53-5 now incorrectly references § 32.53-30, which was removed. This rule removes the incorrect cross-reference.

Parts 161, 162 and 401

This rule makes changes in these parts to reflect changes in the functional responsibilities for sections in these parts.

Part 199

This rule removes and reserves an obsolete paragraph, 46 CFR 199.620(m), and deletes an obsolete reference in a table.

Regulatory Evaluation

This rule is not a significant regulatory action under section 3(f) of Executive Order 12866, Regulatory Planning and Review, and does not require an assessment of potential costs and benefits under section 6(a)(3) of that Order. The Office of Management and Budget has not reviewed it under that Order. It is not significant under the regulatory policies and procedures of the Department of Transportation (DOT)(44 FR 11040; February 26, 1979). We expect the economic impact of this rule to be so minimal that a full Regulatory Evaluation under paragraph 10e of the regulatory policies and procedures of DOT is unnecessary. As this rule involves internal agency practices and procedures, it will not impose any costs on the public.

Collection of Information

This rule calls for no new collection of information under the Paperwork Reduction Act of 1995 (44 U.S.C. 3501-3520).

Federalism

We have analyzed this rule under Executive Order 13132, Federalism, and have determined that this rule does not have implications for federalism under that Order.

Unfunded Mandates Reform Act

The Unfunded Mandates Reform Act of 1995 (2 U.S.C. 1531-1538) requires Federal agencies to assess the effects of their regulatory actions not specifically required by law. In particular, the Act addresses actions that may result in the expenditure of $100 million or more in any one year by a State, local, or tribal government, in the aggregate, or by the private sector. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We considered the environmental impact of this rule and concluded that, under figure 2-1, paragraph (34)(a) and (b) of Commandant Instruction M16475.lD, this rule is categorically excluded from further environmental documentation. This exclusion is in accordance with paragraphs (34)(a) and (b), concerning regulations that are editorial or procedural and concerning internal agency functions or organization. A “Categorical Exclusion Determination” is available in the docket where indicated under ADDRESSES.

List of Subjects

46 CFR Part 1

Administrative practice and procedure, Organization and functions (Government agencies), Reporting and recordkeeping requirements.

46 CFR Part 10

Reporting and recordkeeping requirements, Schools, Seamen.

46 CFR Part 12

Reporting and recordkeeping requirements, Seamen.

46 CFR Part 28

Fire prevention, Fishing vessels, Marine safety, Occupational safety and health, Reporting and recordkeeping requirements, Seamen.

46 CFR Part 30

Cargo vessels, Foreign relations, Hazardous materials transportation, Penalties, Reporting and recordkeeping requirements, Seamen.

46 CFR Part 32

Cargo vessels, Fire prevention, Marine safety, Navigation (water), Occupational safety and health, Reporting and recordkeeping requirements, Seamen.

46 CFR Part 35

Cargo vessels, Marine safety, Navigation (water), Occupational safety and health, Reporting and recordkeeping requirements, Seamen.

46 CFR Part 67

Vessels.

46 CFR Part 78

Marine safety, Navigation (water), Passenger vessels, Penalties, Reporting and recordkeeping requirements.

46 CFR Part 97

Cargo vessels, Marine safety, Navigation (water), Reporting and recordkeeping requirements.

46 CFR Part 131

Hazardous materials transportation, Marine safety, Navigation (water), Offshore supply vessels, Oil and gas exploration, Operations, Penalties, Reporting and recordkeeping requirements, Vessels.

46 CFR Part 161

Fire prevention, Marine safety, Reporting and recordkeeping requirements.

46 CFR Part 162

Fire prevention, Marine safety, Oil pollution, Reporting and recordkeeping requirements.

46 CFR Part 167

Fire prevention, Marine safety, Reporting and recordkeeping requirements, Schools, Seamen, Vessels.

46 CFR Part 182

Marine safety, Passenger vessels.

46 CFR Part 196

Marine safety, Oceanographic research vessels, Reporting and recordkeeping requirements.

46 CFR Part 199

Cargo vessels, Marine safety, Oil and gas exploration, Passenger vessels, Reporting and recordkeeping requirements, Vessels.

46 CFR Part 401

Administrative practice and procedure, Great Lakes, Navigation (water), Penalties, Reporting and recordkeeping requirements, Seamen.

For the reasons set out in the preamble, the Coast Guard amends 46 CFR parts 1, 10, 12, 28, 30, 32, 35, 67, 78, 97, 131, 161, 162, 167, 182, 196, 199 and 401 as follows:

PART 1—ORGANIZATION, GENERAL COURSE, AND METHODS GOVERNING MARINE SAFETY FUNCTIONS

1. The authority citation for part 1 continues to read as follows:

Authority: 5 U.S.C. 552; 14 U.S.C. 633; 46 U.S.C. 7701; 49 CFR 1.45, 1.46; § 1.01-35 also issued under the authority of 44 U.S.C. 3507.

2. In § 1.01-10:

a. In paragraph (b)(1), revise the first sentence to read as follows;

b. In paragraph (b)(1)(ii)(A), remove the phrase “licensing and documenting of merchant personnel, the issuance of certificates of registry to merchant marine staff officers, and”;

c. In paragraph (b)(1)(ii)(D), remove the words “oversees the national pilotage program” and add, in their place, the phrase “exercises administrative and technical oversight for the Marine Safety Laboratory (MSL)”;

d. Redesignate paragraph (b)(1)(iii) as (b)(1)(iv); and

e. Add a new paragraph (b)(1)(iii) to read as follows:

§ 1.01-10 Organization.

* * * * *

(b) * * *

(1) The Assistant Commandant for Marine Safety and Environmental Protection, under the general direction of the Commandant, directs, supervises, and coordinates the activities of the Standards Directorate, consisting of the Office of Design and Engineering Standards, the Office of Operating and Environmental Standards, and the Office of Standards Evaluation and Development; the Field Activities Directorate, consisting of the Office of Compliance, the Office of Response, and the Office of Investigations and Analysis; the Waterways Management Directorate, consisting of the Great Lakes Pilotage Staff, the Office of Policy and Planning, and the Office of Vessel Traffic Management; and the Resource Management Directorate, consisting of the Office of Planning and Resources, and the Office of Information Resources. * * *

* * * * *

(iii) The Director of Waterways Management (G-MW), under the general direction and supervision of the Assistant Commandant for Marine Safety and Environmental Protection, is the principle advisor to the Assistant Commandant for Marine Safety and Environmental Protection on waterways management objectives, goals, strategies, and related policy issues; coordinates waterways management issues with other interested Coast Guard offices; represents the Coast Guard with other DOT modal administrations and other federal, state, and international governmental organizations on matters concerning waterways management, DOT's Marine Transportation System (MTS), and port security; in coordination with the Director of Field Activities, resolves appeals on waterways management issues from industry and the public regarding decisions by Captains of the Port; as the Secretary of Transportation's representative, chairs the U.S. Port Security Committee; directs and administers the Interagency Committee on the Marine Transportation System and the Navigation Safety Advisory Council.

* * * * *

PART 10—LICENSING OF MARITIME PERSONNEL

3. The authority citation for part 10 continues to read as follows:

Authority: 14 U.S.C. 633; 31 U.S.C. 9701; 46 U.S.C. 2101, 2103, and 2110; 46 U.S.C. Chapter 71; 46 U.S.C. 7502, 7505, and 7701; 49 CFR 1.45 and 1.46. Section 10.107 is also issued under the authority of 44 U.S.C. 3507.

§ 10.112 [Amended]

4. In § 10.112(b), remove the phrase “Commandant (G-MOC), 2100 Second Street SW., Washington, DC 20593-0001” and add, in its place, the phrase “Commanding Officer, U.S. Coast Guard National Maritime Center, 4200 Wilson Boulevard, Suite 630, Arlington, VA 22203-1804”.

§ 10.910 [Amended]

5. In § 10.910, in table 10.910-2, under the “Examination topics” column, in the entry for “Search and Rescue,” remove the word “AMVER” and add, in its place, the word “Amver”.

PART 12—CERTIFICATION OF SEAMEN

6. The authority citation for part 12 continues to read as follows:

Authority: 31 U.S.C. 9701; 46 U.S.C. 2101, 2103, 2110, 7301, 7302, 7503, 7505, 7701; 49 CFR 1.46.

§ 12.02-13 [Amended]

7. In § 12.02-13(c), remove “10.02-5” and add, in its place, “10.205(c)”.

PART 28—REQUIREMENTS FOR COMMERCIAL FISHING INDUSTRY VESSELS

8. The authority citation for part 28 continues to read as follows:

Authority: 46 U.S.C. 3316, 4502, 4505, 4506, 6104, 10603; 49 CFR 1.46.

§ 28.225 [Amended]

9. In § 28.225(a)(1), remove the phrase “Defense Mapping Agency Hydrographic/Topographic Center” and add, in its place, the words “the National Imagery and Mapping Agency”.

§ 28.275 [Amended]

10. In § 28.275(a), remove the phrase “1900 Arch Street, Philadelphia, PA 19103-1498” and add, in its place, the phrase “5458 Wagonmaster Drive, Colorado Springs, CO 80917”.

PART 30—GENERAL PROVISIONS

11. The authority citation for part 30 continues to read as follows:

Authority: 46 U.S.C. 2103, 3306, 3307, 3703; 49 U.S.C. 5103, 5106; 49 CFR 1.45, 1.46; Section 30.01-2 also issued under the authority of 44 U.S.C. 3507; Section 30.01-5 also issued under the authority of Sec. 4109, Pub. L. 101-380, 104 Stat. 515.

12. In § 30.01-6, add paragraph (a)(2)(iii) to read as follows:

§ 30.01-6 Application to vessels on an international voyage.

(a) * * *

(2) * * *

(i) (iii) Between the contiguous states of the United States and the states of Hawaii or Alaska or between the states of Hawaii and Alaska.

* * * * *

PART 32—SPECIAL EQUIPMENT, MACHINERY, AND HULL REQUIREMENTS

13. The authority citation for part 32 continues to read as follows:

Authority: 46 U.S.C. 2103, 3306, 3703, 3719; E.O. 12234, 45 FR 58801, 3 CFR, 1980 Comp., p. 277; 49 CFR 1.46; Subpart 32.59 also issued under the authority of Sec. 4109, Pub. L. 101-380, 104 Stat. 515.

14. Revise § 32.53-5 to read as follows:

§ 32.53-5 Operation-T/ALL.

Unless the cargo tanks are gas free, the master of each tankship to which this subpart applies shall ensure that the inert gas system is operated as necessary to maintain an inert atmosphere in the cargo tanks.

PART 35—OPERATIONS

15. The authority citation for part 35 continues to read as follows:

Authority: 33 U.S.C. 1321(j); 46 U.S.C. 3306, 3703, 6101; 49 U.S.C. 5103, 5106; E.O. 12234, 45 FR 58801, 3 CFR, 1980 Comp., p. 277; E.O. 12777, 56 FR 54757, 3 CFR, 1991 Comp., p. 351; 49 CFR 1.46.

§ 35.20-1 [Amended]

16. In § 35.20-1:

a. In paragraph (a), remove the words “U.S. Navy” and add, in their place, the words “National Imagery and Mapping Agency”; and

b. In paragraph (c), remove the phrase “U.S. Naval Oceanographic Office, the U.S. Coast and Geodetic Survey” and add, in its place, the phrase “National Imagery and Mapping Agency, National Ocean Service,”; and remove the phrase “U.S. Naval Oceanographic Office, Washington, DC 20390, Branch Oceanographic Offices” and add, in its place, the words “National Imagery and Mapping Agency”.

PART 67—DOCUMENTATION OF VESSELS

17. The authority citation for part 67 continues to read as follows:

Authority: 14 U.S.C. 664; 31 U.S.C. 9701; 42 U.S.C. 9118; 46 U.S.C. 2103, 2107, 2110; 46 U.S.C. app. 841a, 876; 49 CFR 1.45, 1.46.

§ 67.107 [Amended]

18. In § 67.107(b), remove the words “Certificate of Measurement” and add, in their place, the words “certificate of measurement”.

PART 78—OPERATIONS

19. The authority citation for part 78 continues to read as follows:

Authority: 33 U.S.C. 1321(j); 46 U.S.C. 2103, 3306, 6101; 49 U.S.C. 5103, 5106; E.O. 12234, 45 FR 58801, 3 CFR, 1980 Comp., p. 277; E.O. 12777, 56 FR 54757; 3 CFR, 1991 Comp., p. 351; 49 CFR 1.46.

§ 78.05-1 [Amended]

20. In § 78.05-1:

a. In paragraph (a), remove the words “U.S. Navy” and add, in their place, the words “National Imagery and Mapping Agency”; and

b. In paragraph (c), remove the phrase “U.S. Naval Oceanographic Office, the U.S. Coast and Geodetic Survey” and add, in its place, the phrase “National Imagery and Mapping Agency, National Ocean Service,”; and remove the phrase “U.S. Naval Oceanographic Office, Washington, DC 20390, Branch Oceanographic Offices” and add, in its place, the words “National Imagery and Mapping Agency”.

§ 78.10-1 [Amended]

21. In § 78.10-1, remove the words “United States Coast and Geodetic Survey” and add, in their place, the phrase “National Imagery and Mapping Agency, National Ocean Service”.

PART 97—OPERATIONS

22. The authority citation for part 97 continues to read as follows:

Authority: 33 U.S.C. 1321(j); 46 U.S.C. 2103, 3306, 6101; 49 U.S.C. 5103, 5106; E.O. 12234, 45 FR 58801, 3 CFR, 1980 Comp., p. 277; E.O. 12777, 56 FR 54757; 3 CFR, 1991 Comp., p. 351; 49 CFR 1.46.

§ 97.05-1 [Amended]

23. In § 97.05-1:

a. In paragraph (a), remove the words “U.S. Navy” and add, in their place, the words “National Imagery and Mapping Agency”; and

b. In paragraph (c), remove the phrase “U.S. Naval Oceanographic Office, the U.S. Coast and Geodetic Survey” and add, in its place, the phrase “National Imagery and Mapping Agency, National Ocean Service,”; and remove the phrase “U.S. Naval Oceanographic Office, Washington, DC 20390, Branch Oceanographic Offices” and add, in its place, the words “National Imagery and Mapping Agency”.

§ 97.10-5 [Amended]

24. In § 97.10-5, remove the words “United States Coast and Geodetic Survey” and add, in their place, the phrase “National Imagery and Mapping Agency, National Ocean Service”.

PART 131—OPERATIONS

25. The authority citation for part 131 continues to read as follows:

Authority: 33 U.S.C. 1321(j); 46 U.S.C. 3306, 6101, 10104; E.O. 12234, 3 CFR, 1980 Comp., p. 277; E.O. 12777, 3 CFR, 1991 Comp., p. 351; 49 CFR 1.46.

§ 131.910 [Amended]

26. In § 131.910, remove the words “U.S. Navy” and add, in their place, the words “National Imagery and Mapping Agency”.

PART 161—ELECTRICAL EQUIPMENT

27. The authority citation for part 161 continues to read as follows:

Authority: 46 U.S.C. 3306, 3703, 4302; E.O. 12234, 45 FR 58801, 3 CFR, 1980 Comp., p. 277; 49 CFR 1.46.

§ 161.010-1 [Amended]

28. In § 161.010-1(a), remove the phrase “U.S. Coast Guard, Office of Design and Engineering Standards (G-MSE), 2100 Second Street SW., Washington, DC 20593-0001” and add, in its place, the phrase “Commanding Officer, USCG Marine Safety Center, 400 Seventh Street SW., Washington, DC 20590-0001”.

§ 161.010-4 [Amended]

29. In § 161.010-4:

a. In paragraph (a), remove the phrase “Commandant (G-MSE), U.S. Coast Guard, 2100 Second Street SW., Washington, DC 20593-0001” and add, in its place, the phrase “Commanding Officer, USCG Marine Safety Center, 400 Seventh Street SW., Washington, DC 20590-0001”; and

b. In paragraph (b), remove the phrase “Commandant (G-MSE)” and add, in its place, the phrase “Commanding Officer, USCG Marine Safety Center”.

PART 162—ENGINEERING EQUIPMENT

30. The authority citation for part 162 continues to read as follows:

Authority: 33 U.S.C. 1321(j), 1903; 46 U.S.C. 3306, 3703, 4104, 4302; E.O. 12234, 45 FR 58801, 3 CFR, 1980 Comp., p. 277; E.O. 11735, 38 FR 21243, 3 CFR, 1971-1975 Comp., p. 793; 49 CFR 1.46.

§ 162.017-3 [Amended]

31. In § 162.017-3:

a. In paragraph (b), remove the phrase “Commandant (G-MSE)” and add, in its place, the phrase “Commanding Officer, USCG Marine Safety Center”;

b. In paragraph (c), remove the word “Commandant” and add, in its place, the phrase “Commanding Officer, USCG Marine Safety Center”; and

c. In paragraph (o), remove the word “Commandant” and add, in its place, the phrase “Commanding Officer, USCG Marine Safety Center”.

§ 162.017-5 [Amended]

32. In the footnote for § 162.017-5(a), remove the word “Commandant” and add, in its place, the phrase “Commanding Officer, USCG Marine Safety Center”.

§ 162.017-6 [Amended]

33. In § 162.017-6:

a. In paragraph (a), remove the phrase “Commandant (G-MSE), U.S. Coast Guard, Washington, DC 20593-0001” and add, in its place, the phrase “Commanding Officer, USCG Marine Safety Center, 400 Seventh Street SW., Washington, DC 20590-0001”; and

b. In paragraph (c), remove the phrase “Commandant (G-MSE)” in both places where it appears in the paragraph and add, in those places, the phrase “Commanding Officer, USCG Marine Safety Center”.

§ 162.018-6 [Amended]

34. In the footnote for § 162.018-6(a), remove the word “Commandant” and add, in its place, the phrase “Commanding Officer, USCG Marine Safety Center”.

§ 162.018-7 [Amended]

35. In § 162.018-7(a), remove the word “Commandant” and add, in its place, the phrase “Commanding Officer, USCG Marine Safety Center”.

§ 162.018-8 [Amended]

36. In § 162.018-8:

a. In paragraph (a), remove the phrase “Commandant (G-MSE), U.S. Coast Guard, Washington, DC 20593-0001” and add, in its place, the phrase “Commanding Officer, USCG Marine Safety Center, 400 Seventh Street SW., Washington, DC 20590-0001”;

b. In paragraph (b), remove the word “Commandant” and add, in its place, the phrase “Commanding Officer, USCG Marine Safety Center,”; and

c. In paragraph (c), remove the word “Commandant” in both places where it appears in the paragraph and add, in those places, the phrase “Commanding Officer, USCG Marine Safety Center”.

§ 162.050-7 [Amended]

37. In § 162.050-7:

a. In paragraph (a), remove the phrase “Commandant (G-MSE), U.S. Coast Guard, Washington, DC 20593-0001” and add, in its place, the phrase “Commanding Officer, U.S. Coast Guard Marine Safety Center, Engineering Division, 400 Seventh Street SW., Washington, DC 20590-0001”;

b. In paragraph (f), remove the phrase “Commandant (G-MSE)” and add, in its place, the phrase “Commanding Officer, USCG Marine Safety Center”; and

c. In paragraph (g), remove the phrase “Commandant (G-MSE)” and add, in its place, the phrase “Commanding Officer, USCG Marine Safety Center”.

§ 162.050-13 [Amended]

38. In § 162.050-13(b), remove the word “Commandant” and add, in its place, the phrase “Commanding Officer, USCG Marine Safety Center,”.

§ 162.050-15 [Amended]

39. In § 162.050-15:

a. In paragraph (a), remove the phrase “Commandant (G-MSE), U.S. Coast Guard, Washington, DC 20593-0001” and add, in its place, the phrase “Commanding Officer, U.S. Coast Guard Marine Safety Center, Engineering Division, 400 Seventh Street SW., Washington, DC 20590-0001”;

b. In paragraph (e), remove the phrase “Commandant (G-MSE), U.S. Coast Guard, Washington, DC 20593-0001” and add, in its place, the phrase “Commanding Officer, U.S. Coast Guard Marine Safety Center, Engineering Division, 400 Seventh Street SW., Washington, DC 20590-0001”; and

c. In paragraph (h), remove the phrase “Commandant (G-MSE), U.S. Coast Guard, Washington, DC 20593-0001” and add, in its place, the phrase “Commanding Officer, U.S. Coast Guard Marine Safety Center, Engineering Division, 400 Seventh Street SW., Washington, DC 20590-0001”.

PART 167—PUBLIC NAUTICAL SCHOOL SHIPS

40. The authority citation for part 167 continues to read as follows:

Authority: 46 U.S.C. 3306, 3307, 6101, 8105; E.O. 12234, 45 FR 58801, 3 CFR, 1980 Comp., p. 277; 49 CFR 1.46.

§ 167.65-45 [Amended]

41. In § 167.65-45:

a. In paragraph (a), remove the words “U.S. Navy” and add, in their place, the words “National Imagery and Mapping Agency”; and

b. In paragraph (c), remove the phrase, “U.S. Naval Oceanographic Office, the U.S. Coast and Geodetic Survey” and add, in its place, the phrase “National Imagery and Mapping Agency, National Ocean Service,”; and remove the phrase “U.S. Naval Oceanographic Office, Washington, DC 20390, Branch Oceanographic Offices” and add, in its place, the words “National Imagery and Mapping Agency”.

PART 182—MACHINERY INSTALLATION

42. The authority citation for part 182 continues to read as follows:

Authority: 46 U.S.C. 3306; E.O. 12234, 45 FR 58801, 3 CFR, 1980 Comp., p. 277; 49 CFR 1.46.

§ 182.455 [Amended]

43. In § 182.455(c), remove the phrase “33 CFR 193” and add, in its place, the phrase “33 CFR 183”.

PART 196—OPERATIONS

44. The authority citation for part 196 continues to read as follows:

Authority: 33 U.S.C. 1321(j); 46 U.S.C. 2213, 3306, 5115, 6101; E.O. 12777, 56 FR 54757, 3 CFR, 1991 Comp., p. 351; E.O. 12234, 45 FR 58801, 3 CFR, 1980 Comp., p. 277; 49 CFR 1.46.

§ 196.05-1 [Amended]

45. In § 196.05-1:

a. In paragraph (a), remove the words “U.S. Navy” and add, in their place, the words “National Imagery and Mapping Agency”; and

b. In paragraph (c), remove the phrase “U.S. Naval Oceanographic Office, the U.S. Coast and Geodetic Survey” and add, in its place, the phrase “National Imagery and Mapping Agency, National Ocean Service,”; remove the phrase, “U.S. Naval Oceanographic Office, Washington, DC 20390, Branch Oceanographic Offices” and add, in its place, the words “National Imagery and Mapping Agency”.

PART 199—LIFESAVING SYSTEMS FOR CERTAIN INSPECTED VESSELS

46. The authority citation for part 199 continues to read as follows:

Authority: 46 U.S.C. 3306, 3307, 3703; 49 CFR 1.46.

§ 199.620 [Amended]

47. In § 199.620:

a. In table 199.620(a) at the end of paragraph 199.620(a), remove the row starting with the words “199.510: EPIRB requirement. . . .”; and

b. Revise paragraph (m) to read as follows:

§ 199.620 Alternatives for all vessels in a specified service.

* * * * *

(m) [Reserved]

* * * * *

PART 401—GREAT LAKES PILOTAGE REGULATIONS

48. The authority citation for part 401 continues to read as follows:

Authority: 46 U.S.C. 2104(a), 6101, 7701, 8105, 9303, 9304; 49 CFR 1.45, 1.46(mmm); 46 CFR 401.105 also issued under the authority of 44 U.S.C. 3507.

§ 401.110 [Amended]

49. In § 401.110(a)(9), remove the phrase “(G-MO)” and add, in its place, the phrase “(G-MW)”.

Dated: September 17, 2001.
Joseph J. Angelo,
Director of Standards, Marine Safety and Environmental Protection.

[FR Doc. 01-23554 Filed 9-20-01; 8:45 am]

BILLING CODE 4910-15-P